DEPARTMENT OF THE INTERIOR

National Park Service

National Register of Historic Places; Notification of Pending Nominations

Nominations for the following properties being considered for listing in the National Register were received by the National Park Service before March 17, 2001. Pursuant to section 60.13 of 36 CFR part 60 written comments concerning the significance of these properties under the National Register criteria for evaluation may be forwarded to the National Register, National Park Service, 1849 C St. NW., NC400, Washington, DC 20240. Written comments should be submitted by April 17, 2001.

Patrick W. Andrus,
Acting, Keeper of the National Register of Historic Places.

Georgia

Gilmer County

Cartecay Methodist Church and Cemetery, Jct. of roy Rd and GA 52, Ellijay, 01000383

Jackson County

Braselton Historic District, Jct. of GA 124 and GA 53, Braselton, 01000384

Kansas

Ellis County

Fort Fletcher Stone Arch Bridge, (Masonry Arch Bridges of Kansas TR) 4.8 mi. S of Walker, Walker Ave., Walker, 01000385

Lincoln County

Marshall—Yohe House, 316 S. Second St., Lincoln, 01000386

Louisiana

Vernon Parish

Reid, Dr. William E., House, 300 S. 8th St., Leesville, 01000387

Maryland

Baltimore Independent city

Mount Vernon Mill No. 1, 3000 Falls Rd., Baltimore, 01000388

New York

Jefferson County

Village of Antwerp Historic District, Roughly Main, Depot, Maple, VanBuren, Mechanic, Fulton, Academy and Washington Sts., Lexington, Hoyt & Madison Aves., Antwerp, 01000389

Ohio

Hardin County

Mount Victory Historic District, Main and Taylor Sts., Mount Victory, 01000390

Union County

Henderson, Dr. David W., House, 318 E. Fifth St., Marysville, 01000391

South Dakota

Hutchinson County

Salem Church Parsonage, 206 S. High St., Menno, 01000392

Tennessee

Giles County

Abernathy Farm, (Historic Family Farms in Middle Tennessee MPS) 9441 Elkton Pike, Conway, 01000393

Hamilton County

Signal Mountain Elementary School, 809 Kentucky Ave., Signal Mountain, 01000395

Knox County

Monday House, (Knoxville and Knox County MPS) 2721 Asbury Rd., Knoxville, 01000394

Texas

Travis County

University Junior High School, 1925 San Jacinto Blvd., Austin, 01000396

Wisconsin

Green Lake County

Ketchum, Daniel and Catherine, Cobblestone House, 147 E. Second St., Marquette, 01000397

[FR Doc. 01-7986 Filed 3-30-01; 8:45 am]

BILLING CODE 4310-70-P